DEPARTMENT OF ENERGY

Federal Energy Regulatory Commission

Combined Notice of Filings

Take notice that the Commission has received the following Natural Gas Pipeline Rate and Refund Report filings:

Filings Instituting Proceedings

Docket Numbers: RP14-1096-000.

Applicants: Transcontinental Gas Pipe Line Company.

Description: Remove X-270 and X-276 References to be effective 7/1/2014.

Filed Date: 7/10/14.

Accession Number: 20140710-5045.

Comments Due: 5 p.m. ET 7/22/14.

Docket Numbers: RP14-1097-000.

Applicants: Questar Pipeline Company.

Description: Non-Conforming TSAs version 6.0.0 to be effective 7/1/2014.

Filed Date: 7/10/14.

Accession Number: 20140710-5050.

Comments Due: 5 p.m. ET 7/22/14.

Docket Numbers: RP14-1098-000.

Applicants: Cameron Interstate Pipeline, LLC.

Description: Cameron Interstate Pipeline New Section 8.41 Termination Provision to be effective 8/1/2014.

Filed Date: 7/10/14.

Accession Number: 20140710-5089.

Comments Due: 5 p.m. ET 7/22/14.

Docket Numbers: RP14-1099-000.

Applicants: ANR Pipeline Company.

Description: Part 6.2.10—GT&C, Sale of Service, Revision to be effective 8/11/2014.

Filed Date: 7/10/14.

Accession Number: 20140710-5122.

Comments Due: 5 p.m. ET 7/22/14.

Docket Numbers: RP14-1100-000.

Applicants: Texas Eastern Transmission, LP.

Description: Correct Section Reference in GT&C Section 4.1(I)(2) to be effective 8/10/2014.

Filed Date: 7/10/14.

Accession Number: 20140710-5147.

Comments Due: 5 p.m. ET 7/22/14.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP14-1017-001.

Applicants: Columbia Gas Transmission, LLC.

Description: PAL Allocation Compliance Filing to be effective 7/1/2014.

Filed Date: 7/11/14.

Accession Number: 20140711-5024.

Comments Due: 5 p.m. ET 7/23/14.

Docket Numbers: RP14-1018-001.

Applicants: Columbia Gulf Transmission, LLC.

Description: PAL Allocation Compliance Filing to be effective 7/1/2014.

Filed Date: 7/11/14.

Accession Number: 20140711-5028.

Comments Due: 5 p.m. ET 7/23/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2014.
Nathaniel J. Davis, Sr.,
Deputy Secretary.

[FR Doc. 2014-17198 Filed 7-21-14; 8:45 am]

BILLING CODE 6717-01-P